SMALL BUSINESS ADMINISTRATION

Data Collection Available for Public Comments

ACTION: 60-DAY notice and request for comments.

SUMMARY: The Small Business Administration (SBA) intends to request approval from the Office of Management and Budget (OMB) to reduce the approved collection of information for 8(a) Business Development (BD) Program applicants. The Paperwork Reduction Act (PRA) of 1995, 44 U.S.C Chapter 35 required federal agencies to publish a notice in the Federal Register concerning each proposed or changed collection of information before submission to OMB, and to allow 60 days for public comment in response to the notice. This notice complies with that requirement.

DATES: Submit comments on or before January 19, 2016.

ADDRESSES: Send all comments to Melinda Edwards (Melinda.Edwards@sba.gov), Program Analyst, Office of Business Development, Small Business Administration, 409 3rd Street, 8th Floor, Washington, DC 20416.

For Further Information or a Copy of the Forms, Contact: Melinda Edwards, Program Analyst, Office of Business Development, Melinda.Edwards@sba.gov 202-619-1843, or Curtis B. Rich, Management Analyst, 202-205-7030, Curtis.Rich@sba.gov.

SUPPLEMENTARY INFORMATION: The 8(a) BD Program is designed to enhance the business development of small business concerns owned and controlled by socially and economically disadvantaged individuals whose ability to compete in the free enterprise system has been impaired due to diminished capital and credit opportunities as compared to others in the same or similar line of business. Historically, over 2,000 entrepreneurs apply for 8(a) BD Program certification each year. Each year approximately 1,500 applications are returned without processing or withdrawn because they are incomplete. In an effort to increase the 8(a) BD Program's accessibility to socially and economically disadvantaged small business owners, SBA seeks to reduce the information collection and forms. The reduced collection of information is based directly on the 8(a) Program eligibility criteria in 13 Code of Federal Regulations (CFR) Part 124. SBA believes this initiative will reduce the administrative paperwork burden for 8(a) applicants while maintaining the integrity of the 8(a) BD Program.

Solicitation of Public Comments

SBA is requesting comments on (a) Whether the eliminated/reduced collection of information was necessary for the agency to properly perform its functions; (b) whether the burden estimates are accurate; (c) whether there are ways to further minimize the burden, including through the use of automated techniques or other forms of information technology; and (d) whether there are ways to enhance the quality, utility, and clarity of the information.

Summary of Information Collection:

Title: 8(a) Business Development Program Application.

Description of Respondents: 8(a) Program Participants.

Form Number: SBA Forms 413, 1010 and 1010IND.

Total Estimated Annual Responses (413): 5951.

Total Estimated Annual Hour Burden (413): 8927.

Total Estimated Annual Responses (1010): 2114.

Total Estimated Annual Hour Burden (1010): 3171.

Total Estimated Annual Responses (1010-IND): 1810.

Total Estimated Annual Hour Burden (1010-IND): 1810.

Curtis B. Rich,
Management Analyst.

[FR Doc. 2015-29192 Filed 11-16-15; 8:45 am]

BILLING CODE P